DEPARTMENT OF THE INTERIOR

National Park Service

36 CFR Part 13

RIN 1024-AC83

Special Regulations; Wrangell-St. Elias National Park and Preserve

AGENCY: National Park Service, Interior.

ACTION: Final rule.

SUMMARY: This rule amends the regulations for Wrangell-St. Elias National Park (WRST) by adding the communities of Dot Lake, Healy Lake, Northway (including Northway, Northway Village and Northway Junction), Tanacross, and Tetlin to the park subsistence resident zone. The regulation provides for the addition of communities to park subsistence resident zones. Park subsistence resident zones include nearby areas and communities with a significant concentration of residents who are eligible to engage in subsistence activities in the park. Permanent residents of subsistence resident zone communities are allowed to participate in subsistence activities in the park without a subsistence permit.

DATES: This rule is effective March 27, 2002.

ADDRESSES: Superintendent, Wrangell-St. Elias National Park and Preserve, P.O. Box 439, Copper Center, Alaska 99573, (907) 822-7210.

FOR FURTHER INFORMATION CONTACT: Devi Sharp, Chief, Natural and Cultural Resources, Wrangell-St. Elias National Park and Preserve, P.O. Box 439, Copper Center, Alaska 99573, (907) 822-7236

SUPPLEMENTARY INFORMATION: The principal authors of this rule are Devi Sharp, Wrangell-St. Elias National Park and Preserve, Janis Meldrum and Paul Hunter, Alaska System Support Office, Anchorage, Alaska, and Kym Hall, Regulations Manager, Washington, DC.

I. Background

A proposed rule to amend 36 CFR 13.73 was published by the National Park Service (NPS) in the Federal Register on June 14, 2001 (66 FR 32282). The intent of this regulation change is to add five communities to the WRST subsistence resident zone in accordance with the provisions of 36 CFR 13.43(b). Section 13.43 provides for the addition and deletion of nearby communities to park subsistence resident zones in Alaska based on stated criteria in the section. The community of Northway made the first request to be added to the WRST subsistence resident zone in 1985. Subsequently four additional communities requested consideration. The request has been the subject of review and favorable recommendations by the park Subsistence Resource Commission (SRC), a federal advisory group for subsistence activities, since the initial request in 1985. After review and study, including public notice, hearing and comment, as well as environmental assessment and finding of no significant impact, the NPS has determined the five communities are qualified to be added to the park subsistence resident zone. A collateral administrative change to more clearly describe community and area boundaries is also adopted by this revised rule.

II. Responses to Public Comments

Two respondents commented on the proposed regulations during the 60-day public comment period that closed August 13, 2001. Those comments and our responses follow.

Quantity Test

Comment: A public interest organization questioned the methodology used to determine significant concentrations of subsistence users. They recommended that a “quantity test”, in which at least 51% of community residents are shown to be eligible park subsistence users, should be used.

NPS Response: While the “quantity test” idea continues to be debated among interested park constituencies, including agency managers and staffers, NPS policy favors use of a more flexible methodology that considers a wider range of variables. We believe the existing methodology is consistent with the legislative mandate for subsistence activities in the Alaska parks and monuments.

Re-evaluation of Existing Communities

Comment: The public interest organization recommended that existing resident zone communities should be re-examined periodically using the “quantity test” and current census data to evaluate continuing eligibility. A State of Alaska agency expressed concern that the addition of new communities might lead to unnecessary re-evaluation of current resident zone communities.

NPS Response: The NPS is committed to re-evaluating resident zone communities on a case-by-case basis as necessary. A regular established schedule for reviewing resident zone communities would be costly and does not appear to be warranted at this time. The State concern for unnecessary reviews is not warranted by program experience to date.

Defer Action

Comments: The public interest organization recommended deferring action on the five new communities until resident zone evaluation methodology is revised and existing communities re-evaluated as discussed above. The State agency supported the rulemaking analysis and the addition of the five communities to the park resident zone.

NPS Response: The NPS believes the existing methodology used to apply the eligibility criteria is consistent with the authorizing legislation. While the resident zone concept has been the subject of much debate from the start, the actual application of the program criteria has been stable. The same criteria used to establish the existing resident zone communities have been uniformly applied to the five new communities. Therefore, we believe there is no reason to defer action on adding these communities to the park resident zone as proposed.

Compliance With Laws, Executive Orders, and Department Policy

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or State, Local, or tribal governments or communities. The net effect of adoption of this rule would be to reduce costs by eliminating the need for subsistence users to apply for a permit. The cost saving would accrue to the affected user groups and the park through reduction of actual and potential administrative costs.

(2) This rule will not create a serious inconsistency or otherwise interfere with an action taken or planned by another agency. There will be no change in the manner or substance of interaction with other agencies.

(3) This rule does not alter the budgetary effects or entitlements, grants, user fees, or loan programs or the rights or obligations of their recipients. Current and potential subsistence permittees will continue to be eligible under the resident zone system.

(4) This rule does not raise novel legal or policy issues. This rule is the direct consequence of an existing regulatory method for administering the resident zone system.

While the decision concerning adding or deleting a particular community could be controversial, the regulatory process for making the decision is well established in existing regulations.

Regulatory Flexibility Act

The Department of the Interior certifies that this document will not have a significant economic effect on a substantial number of small entities under the Regulatory Flexibility Act (5 U.S.C. 601 et seq.). The economic consequences of this rule will be to reduce administrative costs for private citizens and for the park. The permitting process that would be eliminated for the residents of five communities operates directly between individual subsistence users and the park. Therefore, there is no impact on small entities and a Regulatory Flexibility Analysis and Small Entity Compliance Guide are not required.

Small Business Regulatory Enforcement Fairness Act (SBREFA)

This rule is not a major rule under 5 U.S.C. 804(2), the Small Business Regulatory Enforcement Fairness Act. This rule:

a. Does not have an annual effect on the economy of $100 million or more. This rule applies to individual subsistence users. It has no applicability to small businesses.

b. Will not cause a major increase in costs or prices for consumers, individual industries, Federal, State, or local government agencies, or geographic regions. This rule will reduce costs for private citizens and the federal government. It will eliminate the need for subsistence users in five communities to apply to the National Park Service for a subsistence permit. The rule will eliminate application costs to individual subsistence users such as the cost of a phone call, postage, or travel to the park office, and will reduce the current and potential administrative processing costs for the park.

c. Does not have significant adverse effects on competition, employment, investment, productivity, innovation, or the ability of U.S.-based enterprises to compete with foreign-based enterprises. This rule does not affect foreign trade. The interaction of the subsistence economy and the general economy is unchanged by this rule.

Unfunded Mandates Reform Act

This rule does not impose an unfunded mandate on State, local, or tribal governments or the private sector of more than $100 million per year. The rule does not have a significant or unique effect on State, local or tribal governments or the private sector. This rule affects the permitting process between individual subsistence users and the park. There is no involvement of small governments in this relationship. The subsistence activities affected occur only on federal public lands within a national park.

Takings (Executive Order 12630)

In accordance with Executive Order 12630, the rule does not have significant takings implications. This rule will modify regulations in a manner that reduces the regulatory impact on private citizens, and is, therefore, excluded from EO 12630.

Federalism (Executive Order 13132)

In accordance with Executive Order 13132, the rule does not have sufficient federalism implications to warrant the preparation of a Federalism Assessment. This rule applies to the permitting relationship between individual subsistence users and the park for activities occurring on federal public lands within the park. The rule does not change or impact the relationship of the park with State and local governments.

Civil Justice Reform (Executive Order 12988)

In accordance with Executive Order 12988, the Office of the Solicitor has determined that this rule does not unduly burden the judicial system and meets the requirements of §§ 3(a) and 3(b)(2) of the Order.

Paperwork Reduction Act

This regulation does not require an information collection from 10 or more parties and a submission under the Paperwork Reduction Act is not required. An OMB form 83-I is not required. This rule will eliminate permit applications for residents of the five affected communities, thus reducing the level of previously approved information collection (see 46 FR 31854) associated with subsistence management in the park.

National Environmental Policy Act

This rule does not constitute a major Federal action significantly affecting the quality of the human environment. However, Environmental Assessments (EAs) and findings of no significant impact (FONSIs) have been completed and are on file in the NPS office at 2525 Gambell St., Anchorage, AK 99503 and at Wrangell-St. Elias National Park and Preserve offices in Copper Center.

Government-to-Government Relationship With Tribes

In accordance with Executive Order 13175 “Consultation and Coordination with Indian Tribal Governments” and the President's memorandum of April 29, 1994, “Government-to-Government Relations with Native American Tribal Governments” (59 FR 22951), and 512 DM 2 we have evaluated potential effects on Federally recognized Indian tribes and have determined that there are no potential effects. This rule applies to individual subsistence users and will result in the elimination of the need for certain subsistence users to apply for a permit to engage in allowable subsistence activities in the park. Subsistence use on federal public lands is not managed as a tribal activity and the federal subsistence program does not apply on Native owned lands.

List of Subjects in 36 CFR Part 13

Alaska, National Parks; Reporting and recordkeeping requirements.

For the reasons discussed in the preamble, the National Park Service amends 36 CFR part 13 as follows:

PART 13—NATIONAL PARK SYSTEM UNITS IN ALASKA

Subpart C—Special Regulations—Specific Park Areas in Alaska

1. The authority citation for Part 13 continues to read as follows:

Authority: 16 U.S.C. 1, 3, 462(k), 3101 et seq.; § 13.65 also issued under 16 U.S.C. 1a-2(h), 1361, 1531.

2. Amend § 13.73 as follows:

a. By revising the heading of paragraph (a)(1) and by adding the following entries in alphabetical order to the list of communities in paragraph (a)(1);

b. By redesignating paragraph (a)(2) as paragraph (a)(3);

c. By adding a new paragraph (a)(2);

d. By revising the heading of newly redesignated paragraph (a)(3).

The addition and revisions read as follows:

§ 13.73 Wrangell-St. Elias National Park and Preserve.

(a) Subsistence—(1) What communities and areas are included in the park resident zone?

* * * * *

Dot Lake

* * * * *

Healy Lake

* * * * *

Northway/Northway Village/Northway Junction

* * * * *

Tanacross

* * * * *

Tetlin

* * * * *

(2) How are boundaries determined for communities added to the park resident zone? Boundaries for communities and areas added to the park resident zone will be determined by the Superintendent after consultation with the affected area or community. If the Superintendent and community are not able to agree on a boundary within two years, the boundary of the area or community added will be the boundary of the Census Designated Place, or other area designation, used by the Alaska Department of Labor for census purposes for that community or area. Copies of the boundary map will be available in the park headquarters office.

(3) What communities are exempted from the aircraft prohibition for subsistence use?

* * * * *

Dated: February 1, 2002.
Joseph E. Doddridge,
Acting Assistant Secretary for Fish and Wildlife and Parks.

[FR Doc. 02-4340 Filed 2-22-02; 8:45 am]

BILLING CODE 4310-70-P